FEDERAL RESERVE SYSTEM

Change in Bank Control Notices; Acquisitions of Shares of Banks or Bank Holding Companies

The notificants listed below have applied under the Change in Bank Control Act (12 U.S.C. 1817(j)) and 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 8, 2000.

A. Federal Reserve Bank of Dallas (W. Arthur Tribble, Vice President) 2200 North Pearl Street, Dallas, Texas 75201-2272:

1. Wendell Don Sapaugh, Sulphur Springs, Texas; to acquire additional voting shares of Sulphur Springs Bancshares, Inc., Sulphur Springs, Texas, and thereby indirectly acquire additional voting shares of City National Bank, Sulphur Springs, Texas.

Board of Governors of the Federal Reserve System, October 19, 2000.
Robert deV. Frierson,
Associate Secretary of the Board.

[FR Doc. 00-27324 Filed 10-24-00; 8:45 am]

BILLING CODE 6210-01-P